DEPARTMENT OF COMMERCE

National Oceanic and Atmospheric Administration

[I.D. 042506A]

Pacific Fishery Management Council; Public Meetings

AGENCY: National Marine Fisheries Service (NMFS), National Oceanic and Atmospheric Administration (NOAA), Commerce.

ACTION: Notice of public meetings.

SUMMARY: The Pacific Fishery Management Council's (Council) Coastal Pelagic Species (CPS) advisory bodies will hold meetings, which are open to the public, on May 16-18, 2006. The primary purpose of the meetings is to review the current Pacific Mackerel Stock Assessment.

DATES: The Coastal Pelagic Species Management Team (CPSMT) and the Scientific and Statistical Committee's (SSC) CPS subcommittee will meet in a joint session on Tuesday, May 16, 2006, from 10:30 a.m. until business for the day is completed. The CPSMT will hold a work session on Wednesday, May 17, 2006, from 8:30 a.m. until business for the day is completed. The Coastal Pelagic Species Advisory Subpanel (CPSAS) will meet Thursday, May 18, 2006, from 8:30 a.m. until business for the day is completed.

ADDRESSES: All meetings will be held at NMFS Southwest Fisheries Science Center, 8604 La Jolla Shores Drive, La Jolla, CA 92037; telephone: (858) 546-7000. On May 16, 2006, the meeting will be held in the Large Conference Room and on May 17 and 18, 2006, the meeting will be held in the Green Room.

Council address: Pacific Fishery Management Council, 7700 NE Ambassador Place, Suite 200, Portland, OR 97220-1384.

FOR FURTHER INFORMATION CONTACT: Mr. Mike Burner, Pacific Fishery Management Council; telephone: (503) 820-2280.

SUPPLEMENTARY INFORMATION: The CPSMT and the SSC CPS subcommittee will review the current Pacific mackerel stock assessment. The CPSMT will also develop harvest guideline and seasonal structure recommendations for the 2006-07 Pacific mackerel fishery and review the 2006 CPS Stock Assessment and Fishery Evaluation (SAFE) document. The CPSAS will review information developed by the CPSMT about the current Pacific mackerel stock assessment and harvest guideline and seasonal structure recommendations for the 2006-07 fishery. The CPSMT and CPSAS will develop recommendations for Council consideration at its June 11-16, 2006, meeting in Foster City, CA, and address other issues relating to CPS management, including marine protected areas and research and data needs. No management actions will be decided by the CPSMT, the SSC CPS subcommittee, or the CPSAS.

Although non-emergency issues not contained in the meeting agendas may be discussed, those issues may not be the subject of formal action during these meetings. Advisory body action will be restricted to those issues specifically listed in this notice and any issues arising after publication of this notice that require emergency action under Section 305(c) of the Magnuson-Stevens Fishery Conservation and Management Act, provided the public has been notified of the intent to take final action to address the emergency.

Special Accommodations

These meetings are physically accessible to people with disabilities. Requests for sign language interpretation or other auxiliary aids should be directed to Ms. Carolyn Porter at (503) 820-2280 at least 5 days prior to the meeting date.

Dated: April 25, 2006.
Tracey L. Thompson,
Acting Director, Office of Sustainable Fisheries, National Marine Fisheries Service.

[FR Doc. E6-6440 Filed 4-27-06; 8:45 am]

BILLING CODE 3510-22-S